DEPARTMENT OF TRANSPORTATION

Federal Motor Carrier Safety Administration

[Docket No. FMCSA-2012-0091]

Notice of Fiscal Year 2012 Cooperative Agreement Solicitation for Applications; Specialized Heavy Vehicle Inspection (SHVI) Study

AGENCY: Federal Motor Carrier Safety Administration (FMCSA), DOT.

ACTION: Notice; request for applications.

SUMMARY: This notice is to inform the public of a FY 2012 cooperative agreement opportunity being offered by the FMCSA in cooperation with the Federal Highway Administration (FHWA) to State agencies responsible for large truck roadside safety inspections. The FMCSA announces this cooperative agreement opportunity based on authorities provided for in the Safe, Accountable, Flexible, Efficient, Transportation Equity Act: A Legacy of Users (Pub. L. 109-59). The cooperative agreement opportunity is to support the FMCSA and the FHWA to collect data for a Specialized Heavy Vehicle Inspection (SHVI) Study.

DATES: Applications are due by May 4, 2012.

FOR FURTHER INFORMATION CONTACT: Please contact the following FMCSA staff with questions or information on this cooperative agreement opportunity: Luke Loy, luke.loy@dot.gov, 202-366-0676. FMCSA staff may be reached at 1200 New Jersey Avenue SE., Washington, DC 20590. Office hours are from 9 a.m. to 5 p.m., EST, Monday through Friday, except Federal holidays.

SUPPLEMENTARY INFORMATION:

Background and Purpose

In an effort to better understand the safety performance of heavier vehicles, the FMCSA and the FHWA are partnering to implement the Specialized Heavy Vehicle Inspection (SHVI) Study Cooperative Agreement. The SHVI Study Cooperative Agreement will provide funding to State agencies responsible for large truck roadside safety inspections. The purpose of the Study is to collect safety data from roadside inspections on vehicles exceeding certain weight levels to determine if there are any associations between higher vehicle weights and motor carrier safety violations, particularly those with out-of-service conditions.

Detailed information on applicant expectations and the application process for these cooperative agreements will be provided in a Notice of Funding Availability to be released April 16, 2012 or soon thereafter. The FMCSA intends to enter into these cooperative agreements by June 1, 2012 or as soon thereafter as administratively practicable.

The FMCSA uses the standard grant application form and quarterly reporting process. The FMCSA requires the Standard Form 424 (Application for Federal Assistance). Applicants for this cooperative agreement will be expected to also complete a Project Narrative and Budget Narrative to support their application. FMCSA uses GrantSolutions, a grants management information technology system, to provide all cooperative agreement documents electronically to its financial processing office. GrantSolutions is a comprehensive grants management system provided by the Grants Center of Excellence (COE). The Grants COE serves as one of three consortia leads under the Grants Management Line of Business E-Gov initiative offering government-wide grants management system support services. Electronic signature of grant documents in GrantSolutions is the Agency's preferred method for executing grant agreement. Additional information will be provided to grantees during the grant award process. Grantees will, however, be required to submit the completed Automated Clearing House (ACH) Vendor Payment Form (SF-3881) directly to FMCSA's financial processing office by U.S. Postal Service, courier service or secure fax. All SHVI Study cooperative agreement applications must be submitted electronically through Grants.gov.

Application Information for FY 2012 Grants

Eligible Entities: State agencies with the responsibility to conduct large truck roadside safety inspections.

Evaluation Factors: The following evaluation factors will be used in reviewing the applications for all FMCSA discretionary grants:

(1) Prior performance—Completion of identified programs and goals per the project plan.

(2) Effective Use of Prior Grants—Demonstrated timely use and expensing of available funds.

(3) Ability of the applicant to support the strategies and activities in the proposal for the entire project period of performance.

(4) Use of innovative approaches in executing a project plan to address identified safety issues.

(5) Feasibility of overall program coordination and implementation based upon the project plan.

Application Due Date: May 4, 2012.

Applications submitted after due dates may be considered on a case-by-case basis and are subject to availability of funds.

Issued on: April 5, 2012.
Kelly Leone,
Associate Administrator, Research and Information Technology.

[FR Doc. 2012-8772 Filed 4-11-12; 8:45 am]

BILLING CODE 4910-EX-P